DEPARTMENT OF THE INTERIOR

Fish and Wildlife Service

Endangered and Threatened Species Permit Application

AGENCY: Fish and Wildlife Service, Interior.

ACTION: Notice of receipt of application.

The following applicant requests an amendment to their permit to conduct certain activities with endangered species. This notice is provided pursuant to section 10(c) of the Endangered Species Act of 1973, as amended (16 U.S.C. 1531, et seq.).

Permit Number TE842849-3

Applicant: Davey Resource Group, Kent, Ohio (Michael Johnson, P.I.)

The applicant requests an amendment to their permit to take (harass, capture and release) endangered Indiana bats (Myotis sodalis) in a larger geographical area, to include the following states: Ohio, Michigan, Indiana, Illinois, Kentucky, Tennessee, Virginia, West Virginia, and Pennsylvania. Activities are proposed for the enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who submits a written request for a copy of such documents to the following office within 30 days of the date of publication of this notice: U.S. Fish and Wildlife Service, Ecological Services Operations, 1 Federal Drive, Fort Snelling, Minnesota 55111-4056. Telephone: (612/713-5350); FAX: (612/713-5292).

Dated: February 9, 2000.
Charles M. Wooley,
Assistant Regional Director, Ecological Services, Region 3, Fort Snelling, Minnesota.

[FR Doc. 00-3531 Filed 2-14-00; 8:45 am]

BILLING CODE 4310-55-P